DEPARTMENT OF ENERGY

Federal Energy Regulatory Commission

[Project No. 4202-025]

KEI Power Management, LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 4202-025.

c. Date Filed: September 28, 2021.

d. Applicant: KEI (Maine) Power Management (II), LLC.

e. Name of Project: Lowell Tannery Hydroelectric Project (project).

f. Location: On the Passadumkeag River in Penobscot County, Maine.

g. Filed Pursuant to: Federal Power Act, 16 U.S.C. 791(a)-825(r).

h. Applicant Contact: Lewis Loon, KEI (Maine) Power Management (II) LLC c/o KEI (USA) Power Management Inc., 423 Brunswick Avenue, Gardiner, ME 04345; (207) 203-3025 or LewisC.Loon@kruger.com.

i. FERC Contact: Robert Haltner at (202) 502-8612 or robert.haltner@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Lowell Tannery Hydroelectric Project (P-4202-025).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The Lowell Tannery Project consists of: (1) a 242.8-foot-long, 21.5-foot-high concrete gravity dam that includes: (a) a 3-foot-long south abutment section; (b) a 35-foot-long section that includes a 27.2-foot-long primary spillway with 42-inch-high flashboards and a crest elevation of 187.5 feet National Geodetic Vertical Datum of 1929 (NGVD29) at the top of the flashboards; (c) a 30.2-foot-long section with a seven-foot-wide, 14.5-foot-high log sluice and a ten-foot-wide, 19-foot-high tainter gate; (d) an 89-foot-long auxiliary spillway with 42-inch-high flashboards and a crest elevation of 187.5 feet NGVD29 at the top of the flashboards; (e) a 26.7-foot-long intake structure with two 15.5-foot-wide, 15.8-foot-high, angled trashracks with 1.5-inch clear bar spacing; and (f) a 58.9-foot-long north abutment section; (2) an impoundment with a surface area of approximately 341 acres at an elevation of 187.5 feet NGVD29; (3) a 69.4-foot-long, 26.7-foot-wide concrete powerhouse containing a 1,000-kilowatt vertical Kaplan turbine-generator unit; (4) a 60-foot-long, 26.7-foot-wide, 13.4-foot-deep tailrace channel that discharges into the Passadumkeag River; (5) a 165-foot-long, 2.3-kV transmission line connecting the turbine-generator unit to a 2.3/12.5-kilovolt (kV) step-up transformer that connects to the local utility distribution system; and (6) appurtenant facilities. The project creates an approximately 70-foot-long bypassed reach of the Passadumkeag River.

As required by Article 19 of the current license, KEI Power operates the project as a run-of-river (ROR) facility, such that project outflow approximates inflow to the impoundment.

Downstream fish passage is provided by a bypass facility located adjacent to the south side of the intake structure and powerhouse, and consists of a 3.7-foot-wide, 6.2-foot-high stoplog slot; a 5.1-foot-wide, 5.8-foot-long concrete fish collection box; and a 69.7-foot-long, 24-inch-diameter fiberglass fish passage pipe that discharges into a 13.4-foot-deep plunge pool next to the tailrace. Upstream fish passage is provided by a 3-foot-wide Denil fishway located adjacent to the north side of the intake structure and powerhouse.

Recreation facilities at the project include a hand-carry boat access area on the north side of the dam, a parking area, and a canoe portage.

The minimum and maximum hydraulic capacities of the powerhouse are 90 and 905 cfs, respectively. The average annual generation of the project was approximately 4,144 megawatt-hours from 2016 through 2020.

KEI Power proposes to: (1) continue operating the project as a ROR facility; (2) install upstream and downstream eel passage facilities; (3) install seasonal trashrack overlays with 0.875-inch diameter holes; (4) modify the discharge location of the existing downstream fish passage pipe to discharge adjacent to the existing upstream fish passage entrance; and (5) develop a fishway operation and management plan.

m. A copy of the application can be viewed on the Commission's website at https://www.ferc.gov using the “eLibrary” link. Enter the docket number excluding the last three digits in the docket number field to access the document (P-4202). For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://www.ferc.gov/ferc-online/overview to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification.

p. Procedural schedule: The application will be processed according to the following preliminary schedule. Revisions to the schedule will be made as appropriate.

Milestone | Target date
Deadline for filing interventions, protests, comments, recommendations, preliminary terms and conditions, and preliminary fishway prescriptions | July 2024.
Deadline for filing reply comments | August 2024.

q. Final amendments to the application must be filed with the Commission no later than 30 days from the issuance date of this notice.

Dated: May 30, 2024.
Debbie-Anne A. Reese,
Acting Secretary.

[FR Doc. 2024-12322 Filed 6-4-24; 8:45 am]

BILLING CODE 6717-01-P